FEDERAL COMMUNICATIONS COMMISSION

[FR ID 127100]

Open Commission Meeting Thursday, February 16, 2023

February 9, 2023.

The Federal Communications Commission will hold an Open Meeting on the subjects listed below on Thursday, February 16, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireline Competition | Title: (Docket No. 22-238); Lifeline and Link Up Reform and Modernization (WC Docket No. 11-42); Affordable Connectivity Program (WC Docket No. 21-450).
|  | Summary: The Commission will consider a Notice of Proposed Rulemaking which would begin the Commission's required implementation of the Safe Connections Act of 2022. The proposal seeks to help survivors of domestic violence and similar crimes separate lines from shared mobile accounts that include their abusers, protect the privacy of calls made by survivors to domestic abuse hotlines, and support survivors who face financial hardship through the Commission's affordability programs.
2 | Wireline Competition | Title: Schools and Libraries Universal Service Support Mechanism (CC Docket No. 02-6); Federal-State Joint Board on Universal Service. (CC Docket No. 96-45); Changes to the Board of Directors for the National Exchange Carrier Association, Inc. (CC Docket No. 97-21).
|  | Summary: The Commission will consider a Notice of Proposed Rulemaking which would seek comments on improvements to the E-Rate program that would increase access for Tribal applicants generally as well as within the Tribal Libraries E-Rate Pilot Program.
3 | Media | Title: Restricted Adjudicatory Matter.
|  | Summary: The Commission will consider a restricted adjudicatory matter.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2023-03253 Filed 2-15-23; 8:45 am]

BILLING CODE 6712-01-P